DEPARTMENT OF TRANSPORTATION

Federal Aviation Administration

Notice of Intent To Rule on Release of Airport Property at Upper Cumberland Regional Airport, Sparta, Tennessee

AGENCY: Federal Aviation Administration (FAA), DOT.

ACTION: Request for Public Comment.

SUMMARY: The Federal Aviation Administration is requesting public comment on a request by the Upper Cumberland Regional Airport, Sparta, TN, to release land at the Upper Cumberland Regional Airport. The request consists of approximately 10.3 acres of property non-contiguous to the airport located on Breeding Swamp Road approximately 3 miles southeast of the airport and 36.84 acres of property non-contiguous to the airport on Franks Ferry Road approximately 13 miles southwest of the airport. This release will allow the property to be sold to serve as wetland mitigation for a projects unrelated to the airport. This action is taken under the provisions of Section 125 of the Wendell H. Ford Aviation Investment Reform Act for the 21st Century (AIR 21).

DATES: Comments must be received on or before September 3, 2015.

ADDRESSES: Documents are available for review at the Upper Cumberland Regional Airport, 750 Airport Road, Sparta, TN 38583; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482. Mr. Braden can be contacted at telephone number 901-322-8181.

In addition, a copy of any comments submitted to the FAA must be mailed or delivered to Mr. Jason Baker, Airport Manager at Upper Cumberland Regional Airport, 750 Airport Road, Sparta, TN 38583. Mr. Baker can be contacted at 931-739-7000.

FOR FURTHER INFORMATION CONTACT: Mr. Michael L. Thompson, Program Manager, Federal Aviation Administration, Memphis Airports District Office, 2600, Thousand Oaks Boulevard, Suite 2250, Memphis, TN 38118-2482. The application may be reviewed in person at this same location, by appointment. Mr. Thompson can be contacted at 901-322-8188.

SUPPLEMENTARY INFORMATION: The FAA proposes to rule and invites public comment on the request to release airport property at the Upper Cumberland Regional Airport, Sparta, TN under the provisions of AIR 21(49 U.S.C. 47107(h)(2)).

On July 28, 2015, the FAA determined that the request to release property at Upper Cumberland Regional Airport meets the procedural requirements of the Federal Aviation Administration. The FAA may approve the request, in whole or in part, no later September 3, 2015.

The following is a brief overview of the request:

The Upper Cumberland Regional Airport is proposing the release of two tracts of property consisting of 10.33 acres and 36.84 acres to allow the property to be used as wetland mitigation for projects in the area unrelated to the airport. These properties are non-contiguous to the airport and located on Breeding Swamp Road approximately 3 miles southeast of the airport and Franks Ferry Road approximately 13 miles southwest of the airport.

Any person may inspect, by appointment, the request in person at the FAA office listed above under FOR FURTHER INFORMATION CONTACT.

Issued in Memphis, TN on July 28, 2015.
Phillip J. Braden,
Manager, Memphis Airports District Office.

[FR Doc. 2015-19141 Filed 8-3-15; 8:45 am]

BILLING CODE 4910-13-P